NATIONAL SCIENCE FOUNDATION

Proposal Review Panel for Computing & Communication Foundations; Notice of Meeting

In accordance with the Federal Advisory Committee Act (Pub. L. 92-463, as amended), the National Science Foundation (NSF) announces the following meeting:

Name and Committee Code: Proposal Review Panel for Computing & Communication Foundations (#1192)—TILOS Site Visit.

Date and Time: June 20, 2024, 8:00 a.m.-4:45 p.m. (Eastern); June 21, 2024, 8:00 a.m.-4:30 p.m. (Eastern).

Place: Halicioglu Data Science Institute, 234 Matthews Ln., La Jolla, CA 92093.

Type of Meeting: Part-Open.

Contact Persons: Sankar Basu, National Science Foundation, 2415 Eisenhower Avenue, Alexandria, VA 22314; Telephone: 703-292-8910.

Purpose of Meeting: NSF site visit to provide advice and recommendations concerning progress of the AI Institute for Learning-enabled Optimization at Scale (TILOS).

Agenda: To conduct an in-depth evaluation of performance, to assess progress towards goals, and to provide recommendations.

Day 1: June 20, 2024

8:00 a.m.-8:15 a.m. Welcome and Introductions (Open)

8:15 a.m.-8:30 a.m. Overview of the Institute (Open)

8:30 a.m.-10:00 a.m. Research Program Overview (Open)

10:00 a.m.-10:15 a.m. BREAK

10:15 a.m.-11:00 a.m. Executive Session (Closed)

11:00 a.m.-11:45 a.m. Education and Broad Impacts (Open)

11:45 a.m.-1:15 p.m. LUNCH + Poster Session (Open)

1:15 p.m.-2:00 p.m External visitors + NSF team meet with students/postdocs (Open)

2:00 p.m.-2:30 p.m. Strategic Impact (multidisciplinary/multi-organizational synergies/nexus point) (Open)

2:30 p.m.-3:15 p.m. Knowledge Transfer (Open)

3:15 p.m.-4:15 p.m. Executive Session (Closed)

4:15 p.m.-4:45 p.m. Written questions/issues delivered to TILOS by the Site Visit Team (Closed)

Day 2: June 21, 2024

8:00 a.m.-9:30 a.m. TILOS Response to issues raised by Site Visit Team (Closed)

9:30 a.m.-4:00 p.m. Site Visit Review Team prepares Site Visit Report [Working lunch provided; TILOS leadership available in case of questions]—Presentation of Site Visit Report (Executive Summary) to TILOS team (Closed)

4:30 p.m. Site Visit concludes

Reason for Closing: Topics to be discussed and evaluated during the site review will include information of a proprietary or confidential nature, including technical information, and information on personnel. These matters are exempt under 5 U.S.C. 552b(c), (4) and (6) of the Government in the Sunshine Act.

Dated: May 14, 2024.
Crystal Robinson,
Committee Management Officer.

[FR Doc. 2024-10927 Filed 5-17-24; 8:45 am]

BILLING CODE 7555-01-P